DEPARTMENT OF COMMERCE

Foreign-Trade Zones Board

(Docket 32-2006)

Foreign-Trade Zone 32—Miami, Florida, Application for Expansion

An application has been submitted to the Foreign-Trade Zones (FTZ) Board (the Board) by the Greater Miami Foreign-Trade Zone, Incorporated, grantee of FTZ 32, requesting authority to expand its zone to include a site in Medley, Florida, within the Miami Customs port of entry. The application was submitted pursuant to the provisions of the Foreign-Trade Zones Act, as amended (19 U.S.C. 81a-81u), and the regulations of the Board (15 CFR part 400). It was formally filed on August 10, 2006.

FTZ 32 was approved on September 6, 1977 (Board Order 123, 42 FR 46568, 9/16/77), expanded on March 3, 1982 (Board Order 184, 47 FR 10612, 3/11/82), and expanded on March 20, 1990 (Board Order 466, 55 FR 11631, 3/29/90). The zone project currently consists of the following sites: Site 1 (72 acres, 750,000 sq. ft.)—warehousing and exhibition center located at NW 25th Street and 107th Avenue, Miami; Site 2 (205 acres)—within the Beacon Centre development located north of NW 12th Street and east of 87th Avenue, Miami; and, Temporary Site (1 acre) within a 49-acre warehouse facility located at 12500 N.W. 112th Avenue, Medley (expires 9/1/2008).

The applicant is now requesting authority to expand the general-purpose zone to include the entire multi-user, food-service warehouse facility located at 12500 N.W. 112th Avenue in Medley (Proposed Site 3, 49 acres). The site is owned by Sysco Food Service of South Florida, Inc. The proposed site will also include the temporary site. The applicant is also requesting that 1 acre (50,000 sq. ft.) at Site 1 be restored to zone status. (A minor modification was approved in June 2006 (A(27f)-29-2006) removing 1 acre (50,000 sq. ft.) from Site 1 to establish the temporary site.) No specific manufacturing requests are being made at this time. Such requests would be made to the Board on a case-by-case basis.

In accordance with the Board's regulations, a member of the FTZ staff has been designated examiner to investigate the application and report to the Board.

Public comment is invited from the interested parties. Submissions (original and 3 copies) shall be addressed to the Board's Executive Secretary at the address below. The closing period for their receipt is October 23, 2006. Rebuttal comments in response to material submitted during the foregoing period may be submitted during the subsequent 15-day period (to November 6, 2006).

A copy of the application and accompanying exhibits will be available for public inspection at each of the following locations: U.S. Department of Commerce, Export Assistance Center, 5835 Blue Lagoon Drive, Suite 203, Miami, FL 33126; and, Office of the Executive Secretary, Foreign-Trade Zones Board, Room 1115, U.S. Department of Commerce, 1401 Constitution Avenue, NW, Washington, DC 20230.

Dated: August 10, 2006.
Andrew McGilvray,
Acting Executive Secretary.

[FR Doc. E6-13869 Filed 8-21-06; 8:45 am]

BILLING CODE 3510-DS-S